DEPARTMENT OF THE INTERIOR

National Park Service

National Register of Historic Places; Notification of Pending Nominations and Related Actions

Nominations for the following properties being considered for listing or related actions in the National Register were received by the National Park Service before December 8, 2007. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by January 4, 2008.

J. Paul Loether,
Chief, National Register of Historic Places/National Historic Landmarks Program.

ALABAMA

Elmore County

Hagerty, Abel, House, 4690 Jasmine Hill Rd., Wetumpka, 07001389

Lee County

Jenkins Farmhouse,

1190 Co. Rd. 38, Dupree, 07001390

CALIFORNIA

Marin County

Muir Woods National Monument, Muir Woods Rd., Mill Valley, 07001396

San Francisco County

San Francisco State Teacher's College, 55 Laguna St., San Francisco, 07001391

COLORADO

Bent County

Las Animas Post Office, (New Deal Resources on Colorado's Eastern Plains MPS) 513 6th St., Las Animas, 07001392

El Paso County

Maytag Aircraft Building, 701 S. Cascade Ave., Colorado Springs, 07001393

Otero County

Rocky Ford Post Office, (New Deal Resources on Colorado's Eastern Plains MPS) 401 9th St., Rocky Ford, 07001394

Park County

Fairplay Hotel, 500 Main St., Fairplay, 07001395

Washington County

Akron Gymnasium, (New Deal Resources on Colorado's Eastern Plains MPS) W. 4th St. & Custer Ave., Akron, 07001397

GEORGIA

Wilcox County

Rochelle Historic District, Centered on 1st Ave and Ashley St., Rochelle, 07001398

MASSACHUSETTS

Middlesex County

Pinkham, Richard, House, 24 Brooks Park, Medford, 07001399

Plymouth County

North Rochester Congregational Church, 289 North Ave., Rochester, 07001400

NEW JERSEY

Bergen County

Edgewater Borough Hall, 916 River Rd., Edgewater, 07001401

Camden County

Marshall, Robert, House, 510 Almonesson Rd. (Gloucester Township), Blenheim, 07001402

Hunterdon County

Vought, Christoffel, Farmstead, E. of Grey Rock Rd., 600 ft. N. of jct. with NJ 31. (Clinton Township), Clinton, 07001403

Mercer County

Broad Street National Bank, 143 E. State St., Trenton, 07001404

Morris County

Madison Masonic Lodge, 170 Main St., Madison, 07001405

Union County

Nitschke, Oswald J., 49 S. 21 St., Kenilworth, 07001406

NORTH CAROLINA

Moore County

Leslie—Taylor House, 270 Carthage Rd., Vass, 07001407

Polk County

Bank of Tryon Building, 16 N. Trade St., Tryon, 07001408

Richmond County

Liberty Hill School, 234 Covington Comm. Rd., Ellerbe, 07001409

Powell—Brookshire—Parker Farm, 1881 E. NC 73, Ellerbe, 07001410

Robeson County

Rowland, Alfred, House, 1111 Carthage Rd., Lumberton, 07001411

Wake County

Fayetteville Street Historic District, Roughly 100-400 blks. of Fayetteville, 00-100 blks. of W. Hargett, 00 blk. of W. Martin, 100-400 S. Salisbury Sts., Raleigh 07001412

WEST VIRGINIA

Berkeley County

West Martinsburg Historic District, (Historic Residential Suburbs in the United States, 1830-1960 MPS) Portions of N. & S. Tennessee, N. & S. Georgia, N. & S. Louisiana, N. & S. Delaware, Memorial Park Aves * * *, Martinsburg, 07001414

Greenbrier County

Homeplace, US 219 N., Frankford, 07001415

Jefferson County

Rock Spring, 2000 Ridge Rd., Shepherdstown, 07001416

Monroe County

Old Sweet Springs Historic District (Boundary Increase), 50 Jefferson Ln., Sweet Springs, 07001417

Ohio County

Mount Saint Joseph, 137 Mt. Saint Joseph Rd., Wheeling, 07001418

North Wheeling Historic District (Boundary Increase), Roughly bound by 6th, Main, & Market Sts., & Main St. Terr., Wheeling, 07001419

WISCONSIN

Door County

Sturgeon Bay Bridge, Michigan St., Sturgeon Bay, 07001420.

[FR Doc. 07-6091 Filed 12-19-07; 8:45 am]

BILLING CODE 4312-51-M